DEPARTMENT OF HEALTH AND HUMAN SERVICES

National Institutes of Health

Center for Scientific Review; Amended Notice of Meeting

Notice is hereby given of a change in the meeting of the Center for Scientific Review Special Emphasis Panel, October 22, 2013, 11:30 a.m. to October 22, 2013, 02:30 p.m., National Institutes of Health, 6701 Rockledge Drive, Bethesda, MD 20892 which was published in the Federal Register on October 01, 2013, 78 FR 60295.

The meeting will be held on November 12, 2013. The meeting time and location remain the same. The meeting is closed to the public.

Dated: October 23, 2013.
David Clary,
Program Analyst, Office of Federal Advisory Committee Policy.

[FR Doc. 2013-25500 Filed 10-28-13; 8:45 am]

BILLING CODE 4140-01-P